DEPARTMENT OF ENERGY

Federal Energy Regulatory Commission

[Docket No. RP00-215-000]

Northern Border Pipeline Company; Notice of Proposed Changes in FERC Gas Tariff

March 15, 2000.

Take notice that on March 10, 2000, Northern Border Pipeline Company (Northern Border) tendered for filing to become part of its FERC Gas Tariff, First Revised Volume No. 1, the following tariff sheets to become effective April 10, 2000:

Third Revised Sheet Number 159

Second Revised Sheet Number 160

Northern Border proposes to revise section 5.0 and remove section 5.1 under Rate Schedule T-1. The herein proposed changes do not result in a change in Northern Border's total revenue requirement.

Northern Border states that copies of this filing have been sent to all of Northern Border's contracted shippers and interested state regulatory Commissions.

Any person desiring to be heard or to protest said filing should file a motion to intervene or a protest with the Federal Energy Regulatory Commission, 888 First Street, NE, Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-6891 Filed 3-20-00; 8:45 am]

BILLING CODE 6717-01-M